DEPARTMENT OF HOMELAND SECURITY

[Docket No. ICEB-2021-0007]

RIN 1653-ZA19

Employment Authorization for Yemeni F-1 Students Experiencing Severe Economic Hardship as a Direct Result of the Current Crisis in Yemen

AGENCY: U.S. Immigration and Customs Enforcement (ICE), Department of Homeland Security (DHS).

SUMMARY: This notice announces that the Secretary of Homeland Security (Secretary) is suspending certain regulatory requirements for F-1 nonimmigrant students whose country of citizenship is Yemen (regardless of country of birth) and who are experiencing severe economic hardship as a direct result of the current crisis in Yemen.

The Secretary is taking action to provide relief to Yemeni citizens who are lawful F-1 nonimmigrant students so the students may request employment authorization, work an increased number of hours while school is in session, and reduce their course load while continuing to maintain F-1 nonimmigrant student status. DHS will deem an F-1 nonimmigrant student who receives employment authorization by means of this notice to be engaged in a “full course of study” for the duration of the employment authorization, if the nonimmigrant student satisfies the minimum course load requirement described in this notice.

DATES: This notice will be effective on September 4, 2021 and will remain in effect through March 3, 2023.

FOR FURTHER INFORMATION CONTACT: Sharon Snyder, Unit Chief, Policy and Response Unit, Student and Exchange Visitor Program; U.S. Immigration and Customs Enforcement, 500 12th Street SW, Stop 5600, Washington, DC 20536-5600; email: sevp@ice.dhs.gov, telephone: (703) 603-3400. This is not a toll-free number. Program information is available at http://www.ice.gov/ sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Yemen who are present in the United States in lawful F-1 nonimmigrant student status as of September 4, 2021, and who are experiencing severe economic hardship as a direct result of the current crisis in Yemen. Suspension of the employment limitations will be available from September 4, 2021 until March 3, 2023, for those who are in lawful F-1 nonimmigrant status as of September 4, 2021. DHS will deem an F-1 nonimmigrant student granted employment authorization by means of this notice to be engaged in a “full course of study” for the duration of the employment authorization, if the F-1 nonimmigrant student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 3, 2023, provided the student satisfies the minimum course load requirement in this notice. DHS also considers students who engage in online coursework pursuant to ICE coronavirus disease 2019 (COVID-19) guidance for nonimmigrant students to be in compliance with regulations while such guidance remains in effect. See ICE Guidance and Frequently Asked Questions on COVID-19, available at https://www.ice.gov/coronavirus [last visited May 2021].

Who is covered by this notice?

This notice applies exclusively to F-1 nonimmigrant students who meet all of the following conditions:

(1) Are citizens of Yemen (regardless of country of birth);

(2) Are lawfully present in the United States in an F-1 nonimmigrant status on September 4, 2021, under section 101(a)(15)(F)(i) of the Immigration and Nationality Act (INA), 8 U.S.C. 1101(a)(15)(F)(i);

(3) Are enrolled in an academic institution that is Student and Exchange Visitor Program (SEVP)-certified for enrollment of F-1 nonimmigrant students;

(4) Are currently maintaining F-1 nonimmigrant status; and

(5) Are experiencing severe economic hardship as a direct result of the current crisis in Yemen.

This notice applies to F-1 nonimmigrant students in an approved private school in grades kindergarten through grade 12, public school in grades 9 through 12, and undergraduate and graduate education. An F-1 nonimmigrant student covered by this notice who transfers to another SEVP-certified academic institution remains eligible for the relief provided by means of this notice.

Why is DHS taking this action?

DHS initially designated Yemen for Temporary Protected Status (TPS) on September 3, 2015, based on ongoing armed conflict in the country resulting from the July 2014 offensive by the Houthis, a northern opposition group that initiated a violent, territorial expansion across the country, eventually forcing the Yemeni government leaders into exile in Saudi Arabia.²

² USCIS DHS Announces Temporary Protected Status Designation for Yemen, available at: https://www.uscis.gov/archive/dhs-announces-temporary-protected-status-designation-for-yemen [last visited May 2021].

As a result of the ongoing armed conflict and continuous crisis in Yemen, the Secretary has redesignated and extended TPS for Yemen for 18 months, effective September 4, 2021. Consistent with USCIS designation for TPS for Yemen, this notice provides relief to Yemeni F-1 nonimmigrant students experiencing severe economic hardship as a direct result of the crisis in Yemen. DHS has reviewed conditions in Yemen and determined that making employment authorization available for eligible nonimmigrant students is warranted. This notice will enable Yemeni F-1 nonimmigrant students to request employment authorization, carry a reduced course load, and increase the number of authorized hours for employment.

The civil war in Yemen has entered its eighth year, killing an estimated 233,000 individuals.³ The United Nations High Commissioner for Refugees (UNHCR) has recorded 69,160 Yemeni refugees and asylum-seekers in neighboring countries.⁴ Over 4 million people have been internally displaced within Yemen, and 166,000 of those were displaced in 2020.⁵ Even if a political resolution to the conflict is reached, Yemen will be faced with tremendous reconstruction needs.

³ United Nations News UN humanitarian office puts Yemen war dead at 233,000, mostly from `indirect causes' available at https://news.un.org/en/story/2020/12/1078972#:~:text=UN%20Podcasts-,UN%20humanitarian%20office%20puts%20Yemen%20war%20dead,%2C%20mostly%20from%20'indirect%20causes'&text=Millions%20of%20children%20across%20Yemen,lack%20of%20basic%20health%20services [last visited May 2021].

⁴ United Nations High Commissioner for Refugees (UNHCR) Refugee Data Finder 2015-2020 available at https://www.unhcr.org/refugee-statistics/download/?url=Gb4fe1 [last visited May 2021].

⁵ UNHCR Operational Update: Yemen, April 15, 2021 available at https://reporting.unhcr.org/sites/default/files/UNHCR%20Yemen%20Operational%20Update%20-%2015%20April%202021.pdf [last visited May 2021].

Yemen's civil war has caused a wide range of emergencies, including: Economic contraction, deepening poverty, high levels of food insecurity, a severely weakened medical system, the reappearance or increased incidence of certain communicable diseases, a collapse in basic services such as water, electricity, and fuel shortages, and institutional and political tensions. Additionally, the impact of the COVID-19 pandemic further devastated what remained of Yemen's healthcare infrastructure after years of protracted conflict. There are 24.1 million people (approximately 80% of the population) in need of humanitarian assistance as a result of civil war and conflict in Yemen.⁶ The United Nations International Children's Emergency Fund (UNICEF) estimates that 18 million people in Yemen (approximately 59% of the population) do not currently have access to clean water and sanitation.⁷

⁶ The United Nations, The United Nations in Yemen available at https://yemen.un.org/en/about/about-the-un, [last visited May 2021].

⁷ UNICEF Yemen, Water, Sanitation, Hygiene, available at https://www.unicef.org/yemen/water-sanitation-and-hygiene [last visited May 2021].

As of May 23, 2021, 309 F-1 nonimmigrant students whose country of citizenship is Yemen were physically present the United States and enrolled in SEVP-certified academic institutions. Given the extent of the crisis in Yemen, affected F-1 nonimmigrant students whose primary means of financial support comes from Yemen may need to be exempt from the normal student employment requirements to continue studying in the United States. The current crisis has created financial barriers for F-1 nonimmigrant students to support themselves and return to Yemen for the foreseeable future. Without employment authorization, these students may lack the means to meet basic living expenses.

What is the minimum course load requirement set forth in this notice?

Undergraduate F-1 nonimmigrant students who receive on-campus or off-campus employment authorization under this notice must remain registered for a minimum of six semester or quarter hours of instruction per academic term.⁸ A graduate-level F-1 nonimmigrant student who receives on- campus or off-campus employment authorization under this notice must remain registered for a minimum of three semester or quarter hours of instruction per academic term. See 8 CFR 214.2(f)(5)(v).

⁸ Undergraduate F-1 students enrolled in a term of different duration must register for at least one half of the credit hours normally required under a “full course of study.” See 8 CFR 214.2(f)(6)(i)(B).

In addition, an F-1 nonimmigrant student (either undergraduate or graduate) granted on campus or off-campus employment authorization under this notice may count up to the equivalent of one class or three credits per session, term, semester, trimester, or quarter of online or distance education toward satisfying this minimum course load requirement, unless the course of study is in a language study program.⁹ See 8 CFR 214.2(f)(6)(i)(G). An F-1 nonimmigrant student who attends an approved private school in grades kindergarten through grade 12 or public school in grades 9 through 12, must maintain “class attendance for no less than the minimum number of hours a week prescribed by the school for normal progress toward graduation,” as required under 8 CFR 214.2(f)(6)(i)(E).

⁹ DHS also considers students who engage in online coursework pursuant to ICE coronavirus disease 2019 (COVID-19) guidance for nonimmigrant students to be in compliance with regulations while such guidance remains in effect. See ICE Guidance and Frequently Asked Questions on COVID-19, available at https://www.ice.gov/coronavirus [last visited May 2021].

May an eligible F-1 nonimmigrant student who already has on-campus or off-campus employment authorization benefit from the suspension of regulatory requirements under this notice?

Yes. A Yemeni F-1 nonimmigrant student who already has on-campus or off-campus employment authorization and is otherwise eligible may benefit under this notice, which suspends regulatory requirements relating to the minimum course load requirement under 8 CFR 214.2(f)(6)(i)(A) and (B) and the employment eligibility requirements under 8 CFR 214.2(f)(9) as specified in this notice. Such an eligible F-1 nonimmigrant student may benefit without having to apply for a new Form I-766, Employment Authorization Document (EAD). To benefit from this notice, the F-1 nonimmigrant student must request the designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever comes first].

Must the F-1 nonimmigrant student apply for reinstatement after expiration of this special employment authorization if the student reduces his or her “full course of study”?

No. DHS will deem an F-1 nonimmigrant student who receives and comports with the employment authorization permitted under this notice to be engaged in a “full course of study” for the duration of the student's employment authorization, provided that a qualifying undergraduate level F-1 nonimmigrant student remains registered for a minimum of six semester or quarter hours of instruction per academic term and a qualifying graduate level F-1 nonimmigrant student remains registered for a minimum of three semester or quarter hours of instruction per academic term.¹⁰ See 8 CFR 214.2(f)(5)(v) and (f)(6)(i)(F). DHS will not require such students to apply for reinstatement under 8 CFR 214.2(f)(16) if otherwise maintaining F-1 nonimmigrant student status.

¹⁰ Undergraduate F-1 nonimmigrant students enrolled in a term of different duration must register for at least one half of the credit hours normally required under a “full course of study.” See 8 CFR 214.2(f)(6)(i)(B).

Will an F-2 dependent (spouse or minor child) of an F-1 nonimmigrant student covered by this notice be eligible to apply for employment authorization?

No. An F-2 spouse or minor child of an F-1 nonimmigrant student cannot be authorized to work in the United States and, therefore, may not accept employment under the F-2 nonimmigrant status. See 8 CFR 214.2(f)(15)(i).

Will the suspension of the applicability of the standard student employment requirements apply to an individual who receives an initial F-1 visa and makes an initial entry in the United States after September 4, 2021?

No. The suspension of the applicability of the standard regulatory requirements only applies to those F-1 nonimmigrant students who meet the following conditions:

(1) Are citizens of Yemen, regardless of country of birth;

(2) Are lawfully present in the United States in F-1 nonimmigrant status on September 4, 2021, under section 101(a)(15)(F)(i) of the INA, 8 U.S.C. 1101(a)(15)(F)(i);

(3) Are enrolled in an academic institution that is SEVP-certified for enrollment for F-1 nonimmigrant students;

(4) Are currently maintaining F-1 nonimmigrant status; and

(5) Are experiencing severe economic hardship as a direct result of the current crisis in Yemen.

An F-1 nonimmigrant student who does not meet all of these requirements is ineligible for the suspension of the applicability of the standard regulatory requirements (even if experiencing severe economic hardship as a direct result of the current crisis in Yemen).

Does this notice apply to a continuing F-1 nonimmigrant student who departs the United States after September 4, 2021 and who needs to obtain a new F-1 visa before returning to the United States to continue an educational program?

Yes. This notice applies to such a nonimmigrant student, but only if the DSO has properly notated the SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students enrolled in kindergarten through grade 12 at a private school or grades 9 through 12 at a public school. Such Yemeni nonimmigrant students must maintain the minimum number of hours of class attendance per week prescribed by the academic institution for normal progress toward graduation. See 8 CFR 214.2(f)(6)(i)(E). The suspension of certain regulatory requirements related to employment through this notice is applicable to all eligible F-1 nonimmigrant students regardless of educational level. Thus, eligible F-1 nonimmigrant students from Yemen enrolled in an elementary school, middle school, or high school do benefit from the suspension of the requirement in 8 CFR 214.2(f)(9)(i) that limits on-campus employment to 20 hours per week while school is in session. Nothing in this notice affects the applicability of federal and state labor laws limiting the employment of minors.

On-Campus Employment Authorization

Will an F-1 nonimmigrant student who receives on-campus employment authorization under this notice have authorization to work more than 20 hours per week while school is in session?

Yes. For an F-1 nonimmigrant student covered in this notice, the Secretary is suspending the applicability of the requirement in 8 CFR 214.2(f)(9)(i) that limits an F-1 student's on-campus employment to 20 hours per week while school is in session. An eligible nonimmigrant student has authorization to work more than 20 hours per week while school is in session, if the DSO has entered the following statement in the remarks field of the SEVIS student record, which will appear on the student's Form I-20:

Approved for more than 20 hours per week of on-campus employment and reduced course load, under the Special Student Relief authorization from [DSO must insert the beginning date of the notice or the beginning date of the students employment, whichever date is later] until [DSO must insert the student's program end date or the end date of the notice, whichever date comes first].

To obtain on-campus employment authorization, the F-1 nonimmigrant student must demonstrate to the DSO that the employment is necessary to avoid severe economic hardship directly resulting from the current crisis in Yemen. A nonimmigrant student authorized by the DSO to engage in on-campus employment by means of this notice does not need to file any applications with U.S. Citizenship and Immigration Services (USCIS). The standard rules permitting full-time employment on-campus when school is not in session or during school vacations apply. See 8 CFR 214.2(f)(9)(i).

Will an F-1 nonimmigrant student who receives on-campus employment authorization under this notice have authorization to reduce the normal course load and still maintain his or her F-1 student status?

Yes. DHS will deem an F-1 nonimmigrant student who receives on-campus employment authorization under this notice to be engaged in a “full course of study” for the purpose of maintaining F-1 student status for the duration of the on-campus employment, if the student satisfies the minimum course load requirement described in this notice. See 8 CFR 214.2(f)(6)(i)(F). However, the authorization to reduce the normal course load is solely for DHS purposes of determining valid F-1 nonimmigrant student status. Nothing in this notice mandates that school officials allow an F-1 student to take a reduced course load if the reduction would not meet the school's minimum course load requirement for continued enrollment.¹¹

¹¹ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” for the purpose of maintaining F-1 nonimmigrant student status for the duration of the students' employment authorization if the student satisfies the minimum course load requirement described in this notice. See 8 CFR 214.2(f)(6)(i)(F). However, the authorization to reduce the normal course load is solely for DHS purposes of determining valid F-1 student status. Nothing in this notice mandates that school officials allow an F-1 nonimmigrant student to take a reduced course load if such a reduced course load would not meet the school's minimum course load requirement.¹²

¹² Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on the severe economic hardship directly resulting from the crisis in Yemen. Filing instructions are at http://www.uscis.gov/i-765.

Fee considerations. Submission of a Form I-765 currently requires payment of a $410 fee. An applicant who is unable to pay the fee may submit a completed Form I-912, Request for Fee Waiver, along with the Form I-765 Application for Employment Authorization. See www.uscis.gov/feewaiver. The submission must include an explanation of why USCIS should grant the fee waiver and the reason(s) for the inability to pay, and any evidence to support the reason(s). See 8 CFR 103.7(c).

Supporting documentation. An F-1 nonimmigrant student seeking off-campus employment authorization due to severe economic hardship must demonstrate the following to the DSO:

(1) This employment is necessary to avoid severe economic hardship; and

(2) The hardship is a direct result of the current crisis in Yemen.

If the DSO agrees that the F-1 nonimmigrant student should receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the student's program end date or the end date of the notice, whichever date comes first].

The F-1 nonimmigrant student must then file the properly endorsed Form I-20 and Form I-765 according to the instructions for the Form I-765. The F-1 nonimmigrant student may begin working off campus only upon receipt of the EAD from USCIS.

DSO recommendation. In making a recommendation that a nonimmigrant student be approved for Special Student Relief, the DSO certifies the following:

(a) The F-1 nonimmigrant student is in good academic standing and carrying a “full course of study” ¹³ at the time of the request for employment authorization;

¹³ See 8 CFR 214.2(f)(6).

(b) The F-1 nonimmigrant student is a citizen of Yemen and is experiencing severe economic hardship as a direct result of the current crisis in Yemen, as documented on the Form I-20;

(c) The F-1 nonimmigrant student has confirmed that the student will comply with the reduced course load requirements of 8 CFR 214.2(f)(5)(v) and register for the duration of the authorized employment for a minimum of six semester or quarter hours of instruction per academic term if at the undergraduate level or for a minimum of three semester or quarter hours of instruction per academic term if at the graduate level; and

(d) The off-campus employment is necessary to alleviate severe economic hardship to the individual as a direct result of the current humanitarian crisis in Yemen.

Processing. To facilitate prompt adjudication of the student's application for off-campus employment authorization under 8 CFR 214.2(f)(9)(ii)(C), the F-1 nonimmigrant student should do both of the following:

(a) Ensure that the application package includes all of the following documents:

(1) A completed Form I-765;

(2) The required fee or properly documented fee waiver request as defined in 8 CFR 103.7(c); and

(3) A signed and dated copy of the student's Form I-20 with the appropriate DSO recommendation, as previously described in this notice; and

(b) Send the application in an envelope that is clearly marked on the front of the envelope, bottom right-hand side, with the phrase “SPECIAL STUDENT RELIEF.” Failure to include this notation may result in significant processing delays.

If USCIS approves the student's Form I-765, USCIS will send the student an EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or other relief that reduce the student's course load per term and permits an increase number of work hours per week, such as the Special Student Relief,¹⁴ under this notice has two options.

¹⁴ DHS Study in the States, Special Student Relief available at https://studyinthestates.dhs.gov/students/special-student-relief [last visited May 2021].

Under the first option, the nonimmigrant student may file the TPS application according to the instructions in the Federal Register Notice designating Yemen for TPS. All TPS applicants must file a Form I-821, Application for Temporary Protected Status. Although not required to do so, if an F-1 nonimmigrant student wants to obtain an EAD based on the student's TPS application valid until March 3, 2023, and to be eligible for EAD extensions that may be available to EADs with an A-12 or C-19 category code, the student must file Form I-765 and pay the Form I-765 fee (or submit a Form I-912, Request for a Fee Waiver). After receiving the TPS-related EAD, an F-1 nonimmigrant student may request that the student's DSO make the required entry in SEVIS, issue an updated Form I-20, as described in this notice, and notate that the nonimmigrant student has been authorized to carry a reduced course load and is working pursuant to a TPS-related EAD. So long as the nonimmigrant student maintains the minimum course load described in this notice, does not otherwise violate the student's nonimmigrant status, including as provided under 8 CFR 214.1(g), and maintains the student's TPS, then the student maintains F-1 status and TPS concurrently.

Under the second option, the nonimmigrant student may apply for an EAD under Special Student Relief by filing the Form I-765 with the location specified in the filing instructions. At the same time, the F-1 nonimmigrant student may file a separate TPS application, but must submit the TPS application according to the instructions provided in the Federal Register Notice designating Yemen for TPS. If the nonimmigrant student has already applied for employment authorization under student relief, they are not required to submit the Form I-765 as part of the TPS application. However, some nonimmigrant students may wish to obtain a TPS EAD in light of certain extensions that may be available to EADs with an A-12 or C-19 category code. The nonimmigrant student should check the appropriate box when filling out Form I-821 to request a TPS-related EAD. Again, the nonimmigrant student will be able to maintain compliance requirements for F-1 nonimmigrant student status while having TPS.

When a student applies simultaneously for TPS status and benefits under this notice, what is the minimum course load requirement while an application for employment authorization is pending?

The F-1 nonimmigrant student must maintain normal course load requirements for a “full course of study” ¹⁵ unless or until the nonimmigrant student receives employment authorization under this notice. TPS-related employment authorization, by itself, does not authorize a nonimmigrant student to drop below twelve credit hours, or otherwise applicable minimum requirements (e.g., clock hours for language students). Once approved for Special Student Relief employment authorization, the F-1 nonimmigrant student may drop below twelve credit hours, or otherwise applicable minimum requirements (with a minimum of six semester or quarter hours of instruction per academic term if the student is at the undergraduate level, or a minimum of three semester or quarter hours of instruction per academic term if the student is at the graduate level). See 8 CFR 214.2(f)(5)(v), 214.2(f)(6), 214.2(f)(9)(i) and (ii).

¹⁵ See 8 CFR 214.2(f)(6).

How does a student who has received a TPS-related employment authorization document then apply for authorization to take a reduced course load under this notice?

There is no further application process if a student has been approved for a TPS-related EAD. However,the F-1 nonimmigrant student must demonstrate and provide documentation to the DSO of the direct economic hardship resulting from the civil unrest in Yemen. The DSO will then verify and note this in the student's SEVIS record to enable the F-1 nonimmigrant student with TPS to reduce their course load without any further action or application. No other EAD needs to be issued for the F-1 nonimmigrant student to have employment authorization.

Can a noncitizen who has been granted TPS apply for reinstatement to F-1 student status after his or her F-1 status has lapsed?

Yes. Current regulations permit certain students who fall out of F-1 nonimmigrant student status to apply for reinstatement. See 8 CFR 214.2(f)(16). This provision might apply to a student who worked on a TPS-related EAD or dropped their course load before publication of this notice, and therefore fell out of student status. The student must satisfy the criteria set forth in the student status reinstatement regulations.

How long will this notice remain in effect?

This notice grants temporary relief until March 3, 2023,¹⁶ to eligible F-1 nonimmigrant students. DHS will continue to monitor the situation in Yemen. Should the special provisions authorized by this notice need modification or extension, DHS will announce such changes in the Federal Register.

¹⁶ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 3, 2023, provided the student satisfies the minimum course load requirement in this notice. DHS also considers students who engage in online coursework pursuant to ICE coronavirus disease 2019 (COVID-19) guidance for nonimmigrant students to be in compliance with regulations while such guidance remains in effect. See ICE Guidance and Frequently Asked Questions on COVID-19, available at https://www.ice.gov/coronavirus [last visited May 2021].

Paperwork Reduction Act (PRA)

An F-1 nonimmigrant student seeking off-campus employment authorization due to severe economic hardship must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows eligible F-1 nonimmigrant students to request employment authorization, work an increased number of hours while the academic institution is in session, and reduce the student's course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro N. Mayorkas,
Secretary, U.S. Department of Homeland Security.

[FR Doc. 2021-14676 Filed 7-7-21; 4:15 pm]

BILLING CODE 9111-28-P